DEPARTMENT OF TRANSPORTATION

National Highway Traffic Safety Administration

Petition for Exemption From the Vehicle Theft Prevention Standard; Saab

AGENCY: National Highway Traffic Safety Administration (NHTSA), Department of Transportation (DOT).

ACTION: Grant of petition for exemption.

SUMMARY: This document grants in full the Saab Cars North America, Inc.'s (Saab) petition for exemption of the 9-5 vehicle line in accordance with 49 CFR part 543, Exemption from the Theft Prevention Standard. This petition is granted because the agency has determined that the antitheft device to be placed on the line as standard equipment is likely to be as effective in reducing and deterring motor vehicle theft as compliance with the parts-marking requirements of the Theft Prevention Standard (49 CFR part 541).

DATES: The exemption granted by this notice is effective beginning with the 2011 model year.

FOR FURTHER INFORMATION CONTACT: Ms. Deborah Mazyck, Office of International Policy, Fuel Economy and Consumer Programs, NHTSA, West Building, W43-443, 1200 New Jersey Avenue, SE., Washington, DC 20590. Ms. Mazyck's telephone number is (202) 366-0846. Her fax number is (202) 493-2990.

SUPPLEMENTAL INFORMATION: In a petition dated March 1, 2010, Saab requested an exemption from the parts-marking requirements of the Theft Prevention Standard (49 CFR part 541) for the MY 2011 Saab 9-5 vehicle line. The petition requested an exemption from parts-marking pursuant to 49 CFR part 543, Exemption from Vehicle Theft Prevention Standard, based on the installation of an antitheft device as standard equipment for the entire vehicle line.

Under § 543.5(a), a manufacturer may petition NHTSA to grant exemptions for one vehicle line per model year. In its petition, Saab provided a detailed description and diagram of the identity, design, and location of the components of the antitheft device for the Saab 9-5 vehicle line. Saab will install its passive transponder-based, electronic immobilizer antitheft device as standard equipment on its 9-5 vehicle line beginning with MY 2011. Major components of the antitheft device will include a body control module (BCM), passive entry passive start module (PEPS), intrusion/inclination sensor, an immobilizer control module and a user identification device (UID). Activation of the immobilization device occurs when the ignition is turned to the “OFF” position. Saab will also install an audible and visual alarm system on the 9-5 as standard equipment. Saab's submission is considered a complete petition as required by 49 CFR 543.7, in that it meets the general requirements contained in § 543.5 and the specific content requirements of § 543.6.

Saab stated that before the vehicle can operate, driver authentication must be performed by communication between the PEPS and the BCM jointly with the UID (key fob). Additionally, verification of the electronic code is required to allow the transmission shift lever to unlock. When the Engine Start/Stop button on the instrument panel is pressed, the vehicle transmits a randomly generated 32-bit challenge and identifier. If the data matches the command and response values, authorizations are sent within the BCM to allow the vehicle to operate. Saab stated that, if incorrect responses are received at any point in the process, or if a response is not received, the system will inhibit operation of the engine.

The Saab 9-5 is equipped with a vehicle alarm system (VAS). The VAS consists of an ultrasonic sensor and vehicle inclination sensor. Any attempt to enter the vehicle by means other than the key will be detected by the VAS. Saab stated that when an unauthorized person has entered the vehicle after the system has been set, the signal lights will flash, and the horn and an additional siren alarm will provide a warning. The VAS monitors the doors, engine hood and trunk lid. Additionally, Saab stated that any attempt to access any of the system components will activate the VAS.

In addressing the specific content requirements of 543.6, Saab provided a detailed list of the tests conducted and believes that the device is reliable and durable since the device complied with its specified requirements for each test. Specifically, Saab stated that the design and assembly processes of the antitheft subsystems and components were validated for climatic, mechanical and chemical environments under the General Motors Corporation validation procedures.

In support of its belief that its antitheft device will be as effective as compliance with the parts marking requirements in reducing and deterring vehicle theft, Saab referenced the American Automobile Manufacturers Association response to Docket 97-042; NHTSA Request for Comments on its preliminary report to Congress on the effects of the Anti Car theft Act of 1984 provides data supporting that the anti-theft device will be effective in reducing and deterring motor vehicle theft. Additionally, Saab stated that the 2011 9-5 antitheft device, which was introduced on the 2003 Saab 9-3, has been designed to enhance the functionality and theft protection provided by Saab's first generation antitheft system. The Saab 9-3 was formerly named the Saab 900. The antitheft device installed on the Saab 9-3 (Saab 900) was granted an exemption from the parts-marking requirements. (See 62 FR 55453).

Saab provided data on the effectiveness of the antitheft device installed on its 9-3 vehicle line in support of the belief that its device will be at least as effective as those comparable devices previously granted exemptions by the agency. The agency's 2007 theft data showed that the theft rate for the 9-3 vehicle line has remained consistently low. The average theft rate using three MY's data for the 9-3 is 0.4690. Based on the theft rate experience of the 9-3 vehicle line and the additional advanced technology utilized in the current 9-5 antitheft system, Saab believes that the Saab 9-5 will be more effective in deterring theft than the parts-marking requirements of 49 CFR 541.

Based on the supporting evidence submitted by Saab on the device, the agency believes that the antitheft device for the 9-5 vehicle line is likely to be as effective in reducing and deterring motor vehicle theft as compliance with the parts-marking requirements of the Theft Prevention Standard (49 CFR 541). The agency concludes that the device will provide the five types of performance listed in § 543.6(a)(3): promoting activation; attracting attention to the efforts of unauthorized persons to enter or operate a vehicle by means other than a key; preventing defeat or circumvention of the device by unauthorized persons; preventing operation of the vehicle by unauthorized entrants; and ensuring the reliability and durability of the device.

Pursuant to 49 U.S.C. 33106 and 49 CFR 543.7(b), the agency grants a petition for exemption from the parts-marking requirements of part 541 either in whole or in part, if it determines that, based upon substantial evidence, the standard equipment antitheft device is likely to be as effective in reducing and deterring motor vehicle theft as compliance with the parts marking requirements of part 541. The agency finds that Saab has provided adequate reasons for its belief that the antitheft device for the Saab vehicle line is likely to be as effective in reducing and deterring motor vehicle theft as compliance with the parts-marking requirements of the Theft Prevention Standard (49 CFR part 541). This conclusion is based on the information Saab provided about its device.

For the foregoing reasons, the agency hereby grants in full Saab's petition for exemption for the Saab 9-5 vehicle line from the parts-marking requirements of 49 CFR part 541, beginning with the 2011 model year vehicles. The agency notes that 49 CFR part 541, Appendix A-1, identifies those lines that are exempted from the Theft Prevention Standard for a given model year. 49 CFR part 543.7(f) contains publication requirements incident to the disposition of all Part 543 petitions. Advanced listing, including the release of future product nameplates, the beginning model year for which the petition is granted and a general description of the antitheft device is necessary in order to notify law enforcement agencies of new vehicle lines exempted from the parts-marking requirements of the Theft Prevention Standard.

If Saab decides not to use the exemption for this line, it must formally notify the agency. If such a decision is made, the line must be fully marked according to the requirements under 49 CFR Parts 541.5 and 541.6 (marking of major component parts and replacement parts).

NHTSA notes that if Saab wishes in the future to modify the device on which this exemption is based, the company may have to submit a petition to modify the exemption. Part 543.7(d) states that a Part 543 exemption applies only to vehicles that belong to a line exempted under this part and equipped with the anti-theft device on which the line's exemption is based. Further, Part 543.9(c)(2) provides for the submission of petitions “to modify an exemption to permit the use of an antitheft device similar to but differing from the one specified in that exemption.”

The agency wishes to minimize the administrative burden that Part 543.9(c)(2) could place on exempted vehicle manufacturers and itself. The agency did not intend in drafting Part 543 to require the submission of a modification petition for every change to the components or design of an antitheft device. The significance of many such changes could be de minimis. Therefore, NHTSA suggests that if the manufacturer contemplates making any changes, the effects of which might be characterized as de minimis, it should consult the agency before preparing and submitting a petition to modify.

Authority: 49 U.S.C. 33106; delegation of authority at 49 CFR 1.50.

Issued on: April 12, 2010.
Stephen R. Kratzke,
Associate Administrator for Rulemaking.

[FR Doc. 2010-8660 Filed 4-14-10; 8:45 am]

BILLING CODE 4910-59-P